DEPARTMENT OF THE INTERIOR

National Park Service

National Register of Historic Places; Notification of Pending Nominations

Nominations for the following properties being considered for listing in the National Register were received by the National Park Service before December 6, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by December 31, 2003.

Carol D. Shull,
Keeper of the National Register of Historic Places.

ALASKA

Ketchikan Gateway Borough—Census Area

Guard Island Lighthouse, (Light Stations of the United States MPS), Guard Islands in the Clarence Strait at the N end of Tongass Narrow, 9.6 mi. NW. of Ketchikan, Ketchikan, 03001378

ARKANSAS

Arkansas County

U.S. Post Office—Stuttgart, 302 S. Maple, Stuttgart, 03001380

Mississippi County

Wildy, Edward Samuel, Barn, 1198 S. AR 136, Etowah, 03001382

Randolph County

Ravenden Springs School, (Public Schools in the Ozarks MPS) AR 90, Ravenden Springs, 03001379

Woodruff County

George Washington Carver High School Home Economics Building, 900 Pearl St., Augusta, 03001381

COLORADO

Montezuma County

Joe Ben Wheat Site Complex, (Great Pueblo Period of the McElmo Drainage Unit MPS) Address Restricted, Yellow Jacket, 03001383

DELAWARE

New Castle County

Liston Range Front Lighthouse, 1600 Belts Rd., Bay View Beach, 03001386

St. Joseph's Catholic Church, 1012 French St., Wilmington, 03001385

IDAHO

Idaho County

Chamberlain Ranger Station Historic District, Frank Church—River of No Return Wilderness, Payette National Forest, 03001388

IOWA

Woodbury County

Mylius—Eaton House, 2900 Jackson St., Sioux City, 03001390

Sioux City Masonic Temple, 820 Nebraska St., Sioux City, 03001389

KANSAS

Atchison County

Stein, Frederick W., House, 324 Santa Fe, Atchison, 03001391

Butler County

Towanda Masonic Lodge No. 30 A.F. and A.M., 401 Main St., Towanda, 03001392

Douglas County

Greenlee, Michael D., House, (Lawrence, Kansas MPS) 947 Louisiana St., Lawrence, 03001387

Ford County

Hennessy Hall, Saint Mary of the Plains Campus, 240 San Jose Dr., Dodge City, 03001396

Harvey County

Lincoln School, 406 W. Sixth St., Newton, 03001395

Newton Stadium, (New Deal-Era Resources of Kansas MPS) Athletic Park, Newton, 03001394

Pottawatomie County

Dennis Quarry, (Aboriginal Lithic Source Areas in Kansas MPS) Address Restricted, Onaga, 03001393

Shawnee County

East Topeka Junior High School, (New Deal-Era Resources of Kansas MPS) 1210 E. 8th St., Topeka, 03001397

Luttjohann, Fred and Cora, House, 2053 S. Kansas Ave., Topeka, 03001384

MAINE

Cumberland County

Androscoggin Swinging Bridge, Spanning the Androscoggin R bet. Topsham and Brunswick, Brunswick, 03001404

Intervale Farm, 1047 Intervale Rd., New Gloucester, 03001407

Steep Falls Library, (Maine Public Libraries MPS) 1128 Pequawket Trail, Steep Falls, 03001406

Hancock County

Hammond, Edward J., Hall, Main St., Winter Harbor, 03001405

Jarvis, Col. Charles and Mary Ann, Homestead, 10 Surry Rd., Ellsworth, 03001403

Piscataquis County

Kineo Cottage Row Historic District, West side of Kineo Peninsula in Moosehead Lake, Kineo Township, 03001408

Sagadahoc County

Trufant Historic District, Portions of Corliss, Highland, Middle, Pine and Washington Sts., Bath, 03001402

NEW MEXICO

Los Alamos County

Grant Road, (Homestead and Ranch School Era Roads and Trails of Los Alamos, New Mexico MPS) Approx. 131 ft. N of the NE corner of the jct. of Diamond Dr. and San Ildefonso Rd., Los Alamos, 03001409

Santa Fe County

Jones, Everret, House, (Buildings Designed by John Gaw Meem MPS) 210 Brownell Howland Rd., Santa Fe, 03001411

Taos County

Lawrence, D.H., Ranch Historic District, Lawrence Rd., approx 2.75 mi. E. of NM 522 on U.S. Forest Service Rd. 7, San Cristobal, 03001410

NEW YORK

Livingston County

First Presbyterian Church of Tuscarora, 8082 Main St., Tuscarora, 03001400

Rensselaer County

Carner, John Jr., House, 1310 Best Rd., East Greenbush, 03001399

Westchester County

Harden, Edward, Mansion, 200 North Broadway, Sleepy Hollow, 03001401

McVickar House, 131 Main St., Irvington, 03001398

OHIO

Montgomery County

Central Branch, National Home for Disabled Volunteer Soldiers, 4100 W. Third St., Dayton, 03001412

OREGON

Multnomah County

Mount Tabor Park Reservoirs Historic District, 1900 SE Reservoir Loop, 6445 SE. Salmon St., and 1600 SE. 60th Ave., Portland, 03001446

Washington Park Reservoirs Historic District, Res. 3 2549 SE. Murray Ave., Res. 4 2521 SW. Murray Ave., Portland, 03001447

PENNSYLVANIA

Lehigh County

Leaser, Frederick and Catherine, Farm, 7654 Leaser Rd., Lynn Township, 03001420

TEXAS

Cameron County

Rector Road Bridge at Clear Creek, (Historic Bridges of Texas MPS) Approx. 2.5 mi. SE. of Sanger, Sanger, 03001418

Cherokee County

Jacksonville Post Office, 402 E. Rusk St., Jacksonville, 03001417

Denton County

Gregory Road Bridge at Duck Creek, (Historic Bridges of Texas MPS) Approx. 0.5 mi. W. of Lois Rd., near the N. Denton County line, Sanger, 03001419

Gonzales County

Gonzales Memorial Museum and Amphitheater Historic District, 414 Smith St., Gonzales, 03001414

McLennan County

McDermott Motors Building, 1125 Washington Ave., Waco, 03001415

Travis County

Arnold Bakery, 1010 E. Eleventh St., Austin, 03001416

Old West Austin Historic District (Boundary Increase), Roughly bounded by Funston, W. 34th, Texas Loop 1, Oakmont, and W. 31st, Austin, 03001413

VIRGINIA

Alexandria Independent City

Alfred Street Baptist Church, (African American Historic Resources of Alexandria, Virginia MPS) 313 S. Alfred St., Alexandria (Independent City), 03001423

Beulah Baptist Church, (African American Historic Resources of Alexandria, Virginia MPS) 320 S. Washington St., Alexandria (Independent City), 03001424

Davis Chapel, (African American Historic Resources of Alexandria, Virginia MPS) 606-A S. Washington St., Alexandria (Independent City), 03001428

Hepburn, Moses, Rowhouses, (African American Historic Resources of Alexandria, Virginia MPS) 206-212 N. Pitt St., Alexandria (Independent City), 03001426

Johnson, Dr. Albert, House, (African American Historic Resources of Alexandria, Virginia MPS) 814 Duke St., Alexandria (Independent City), 03001422

Odd Fellows Hall, (African American Historic Resources of Alexandria, Virginia MPS) 411 S. Columbus St., Alexandria (Independent City), 03001427

Seaton, George Lewis, House, (African American Historic Resources of Alexandria, Virginia MPS) 404 S. Royal St., Alexandria (Independent City), 03001425

Bath County

Millboro School, Jct. of VA 668 (High St.) and VA 633 (Main St.), Millboro, 03001439

Brunswick County

Mason-Tillett House, 1050 Christanna Highway, Valentines, 03001443

Essex County

St. Matthew's Church, Jct. of VA 17, VA 631, and VA 724, Champlain, 03001429

Fairfax County

Silverbook Methodist Church, 8616 Silverbrook Rd., VA 600, Lorton, 03001438

Fauquier County

Hollow, The, VA 688, Leeds Manor Rd. and N. of Marshall School Ln., Markham, 03001442

Northampton County

Cessford, 16546 Courthouse Rd., Eastville, 03001441

Petersburg Independent City

Stewart-Hinton House, 416 High St., Petersburg (Independent City), 03001437

Pittsylvania County

North Danville Historic District, Roughly bounded by Riverside Dr., Claiborne St., Leemont Cemetery, Novle Ave., and Scales St., Danville, 03001432

Portsmouth Independent City

Monumental Methodist Church, 450 Dinwiddie St., Portsmouth (Independent City), 03001430

Powhatan County

Fine Creek Mills Historic District, 2425-2434 Robert E. Lee Rd. (VA 641), Fine Creek Mills, 03001440

Prince William County

Pilgrim's Rest (Boundary Increase), 2101 Belmont Grove Rd., Nokesville, 03001434

Richmond Independent City

Virginia Washington Monument, Capitol Square, Richmond (Independent City), 03001421

Southampton County

Vincent, William H., House, 23016 Main St., Capron, 03001444

Suffolk Independent City

West End Historic District, Roughly bounded by Causey Ave., Seaboard Coast Lines RR tracks, Pender St., Wellons St., Linden Ave., and RR tracks, Suffolk (Independent City), 03001433

Westmoreland County

St. Peter's Episcopal Church, Jct. of VA 3 and VA 205, Oak Grove, 03001445

Winchester Independent City

Fair Mount, 311 Fairmount Ave., Winchester (Independent City), 03001431

Wise County

Derby Historic District, VA 686, from a point beginning 1 mi. above the jct. with VA 78 and extending for 1.2 mi. to the NW., Appalachia, 03001436

Stonega Historic District, VA 600, form 0.1 mi. N. of jct. with VA 685 to a point approx. 3 mi. to the NE., Appalachia, 03001435

A request for a MOVE has been made for the following resource:

TEXAS

Harris County

Cohn, Arthur B., House 1711 Rusk Ave. Houston, 85002771

A request for REMOVAL has been made for the following resources:

MAINE

Androscoggin County

Livermore, Deacon Elijah, House 6 mi. S. of Livermore Falls on Hillman's Ferry Rd., Livermore Falls vicinity, 75000089

Kennebec County

Shrewsbury Round Barn, 109 Benton Ave., Winslow, 82000758

Lincoln County

Smith, Asa, Homestead, ME 218, Alna, 83000465

York County

First Parish Congregational Church, 12 Beach St., Saco, 90000921

[FR Doc. 03-30927 Filed 12-15-03; 8:45 am]

BILLING CODE 4312-51-P